TENNESSEE VALLEY AUTHORITY

Sunshine Act Meeting Notice

Meeting No. 18-02

The TVA Board of Directors will hold a public meeting on May 10, 2018, at the Shoals Marriott and Conference Center, 10 Hightower Place, Florence, Alabama. The public may comment on any agenda item or subject at a public listening session which begins at 9:30 a.m. (CT). Following the end of the public listening session, the meeting will be called to order to consider the agenda items listed below. On-site registration will be available until 15 minutes before the public listening session begins at 9:30 a.m. (CT). TVA management will answer questions from the news media following the Board meeting.

Status: Open.

Agenda

Chair's Welcome

Old Business

Approval of minutes of the February 16, 2018, Board Meeting

New Business

1. Report From President and CEO

2. Governance Item

A. Assistant Corporate Secretaries

3. Report of the Audit, Risk, and Regulation Committee

4. Report of the People and Performance Committee

5. Report of the Finance, Rates, and Portfolio Committee

A. Rate Change

B. Optional Electric Vehicle Rate Pilot

C. Tennessee Gas Pipeline Agreements and Delegation

D. Texas Gas Transmission Agreements

6. Report of the External Relations Committee

A. Modified Land and Equipment Conveyance Delegations

7. Report of the Nuclear Oversight Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: May 3, 2018.
Sherry A. Quirk,
General Counsel.

[FR Doc. 2018-09845 Filed 5-4-18; 11:15 am]

BILLING CODE 8120-08-P